NATIONAL SCIENCE FOUNDATION

Proposal Review Panel for Materials Research; Notice of Meeting

In accordance with the Federal Advisory Committee Act (Pub. L. 92-463 as amended), the National Science Foundation announces the following meeting:

Name: Site visit review of the Cornell Energy Recovery Linac (ERL) technology development program at Cornell University by the Division of Materials Research, #1203.

Dates & Times: February 11, 2013; 7:30 a.m.-9:00 p.m., February 12, 2013; 7:30 a.m.-4:00 p.m.

Place: Cornell University, Ithaca, NY.

Type of Meeting: Part open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning the progress of ERL technology development, plans for the remainder of the award, and continued support.

Agenda

Monday, February 11, 2013

7:30 a.m.-9:00 a.m. Closed—Executive session

9:00 a.m.-4:00 p.m. Open—Review of ERL

4:00 p.m.-5:30 p.m. Closed—Executive session

5:30 p.m.-9:00 p.m. Open—Poster session and dinner

Tuesday, February 12, 2013

8:00 a.m.-9:10 a.m. Open—Review of the ERL

9:10 a.m.-4:00 p.m. Closed—Executive session, Draft and Review Site visit report

Reason for Closing: The work being reviewed may include information of a proprietary or confidential nature, including technical information; financial data, such as salaries and personal information concerning individuals associated with the MRSEC. These matters are exempt under 5 U.S.C. 552b(c), (4) and (6) of the Government in the Sunshine Act.

Dated: January 16, 2013.
Susanne Bolton,
Committee Management Officer.

[FR Doc. 2013-01116 Filed 1-18-13; 8:45 am]

BILLING CODE 7555-01-P